SMALL BUSINESS ADMINISTRATION

[Declaration of Disaster #P009]

State of Maine

As a result of the President's major disaster declaration for Public Assistance on May 14, 2003 the U.S. Small Business Administration is activating its disaster loan program only for private non-profit organizations that provide essential services of a governmental nature. I find that Androscoggin, Aroostook, Cumberland, Franklin, Hancock, Lincoln, Oxford, Penobscot, Piscataquis and Washington Counties in the State of Maine constitute a disaster area due to damages caused by severe winter cold and frost occurring on December 17, 2002 and continuing. Applications for loans for physical damage as a result of this disaster may be filed until the close of business on July 14, 2003 at the address listed below or other locally announced locations: U.S. Small Business Administration, Disaster Area 1 Office, 360 Rainbow Blvd., South, 3rd Floor, Niagara Falls, NY 14303.

The interest rates are:

For Physical Damage:

Non-Profit Organizations Without Credit Available Elsewhere: 3.324%.

Non-Profit Organizations With Credit Available Elsewhere: 5.500%.

The number assigned to this disaster for physical damage is P00911.

(Catalog of Federal Domestic Assistance Program Nos. 59008)
Dated: May 16, 2003.
Herbert L. Mitchell,
Associate Administrator for Disaster Assistance.

[FR Doc. 03-13108 Filed 5-23-03; 8:45 am]

BILLING CODE 8025-01-P